NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on April 5-7, 2007, 11545 Rockville Pike, Rockville, Maryland. The date of this meeting was previously published in the Federal Register on Wednesday, November 15, 2006 (71 FR 66561).

Thursday, April 5, 2007, Conference Room T-2B3, Two White Flint North, Rockville, Maryland

8:30 a.m.-8:35 a.m.: Opening Remarks by the ACRS Chairman (Open)-The ACRS Chairman will make opening remarks regarding the conduct of the meeting.

8:35 a.m.-10:30 a.m.: Human Reliability Analysis Models (Open)-The Committee will hear presentations by and hold discussions with representatives of the NRC staff and Electric Power Research Institute regarding staff's and industry's plans for evaluating different human reliability analysis models in an effort to propose either a single model for the NRC to use or guidance on which models should be used in specific circumstances.

10:45 a.m.-12:15 p.m.: Proposed Revisions to Standard Review Plan (SRP) Section 4.2, Reactor Fuels (Open)—The Committee will hear presentations by and hold discussions with representatives of the NRC staff regarding proposed revisions to SRP Section 4.2, Reactor Fuels, and related matters.

1:45 p.m.-3:15 p.m.: Risk-Management Technical Specification Initiative 4b—Flexible Completion Times (Open)—The Committee will hear presentations by and hold discussions with representatives of the NRC staff regarding Risk-Management Technical Specification Initiative 4b—Flexible Completion Times, and related matters.

3:30 p.m.-4:30 p.m.: ACRS Report on the NRC Safety Research Program (Open)—The Committee will discuss the proposed format, content, and assignments for the ACRS report to the Commission on the NRC Safety Research Program.

4:30 p.m.-4:45 p.m.: Subcommittee Report (Open)—The Committee will hear a report by the Chairman of the ACRS Subcommittee on Plant License Renewal regarding interim review of the license renewal application for the Pilgrim Nuclear Plant.

5 p.m.-7 p.m.: Preparation of ACRS Reports (Open)—The Committee will discuss proposed ACRS reports on matters considered during this meeting. In addition, the Committee will discuss proposed reports on revision to 10 CFR 50.46 LOCA criteria for fuel cladding materials and response to Commission SRM regarding development of a technology-neutral framework for future plant designs.

Friday, April 6, 2007, Conference Room T-2B3, Two White Flint North, Rockville, Maryland

8:30 a.m.-8:35 a.m.: Opening Remarks by the ACRS Chairman (Open)—The ACRS Chairman will make opening remarks regarding the conduct of the meeting.

8:35 a.m.-9:30 a.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

9:30 a.m.-9:45 a.m.: Reconciliation of ACRS Comments and Recommendations (Open)—The Committee will discuss the responses from the NRC Executive Director for Operations to comments and recommendations included in recent ACRS reports and letters.

10 a.m.-11:45 a.m.: Preparation of ACRS Reports (Open)—The Committee will discuss proposed ACRS reports.

1:30 p.m.-2:30 p.m.: Meeting with Commissioner Jaczko (Open)—The Committee will meet with Commissioner Jaczko to discuss items of mutual interest.

2:45 p.m.-7 p.m.: Preparation of ACRS Reports (Open)—The Committee will discuss proposed ACRS reports on matters considered during this meeting.

Saturday, April 7, 2007, Conference Room T-2B3, Two White Flint North, Rockville, Maryland

8:30 a.m.-12:30 p.m.: Preparation of ACRS Reports (Open)—The Committee will continue discussion of proposed ACRS reports.

12:30 p.m.-1 p.m.: Miscellaneous (Open)—The Committee will discuss matters related to the conduct of Committee activities and matters and specific issues that were not completed during previous meetings, as time and availability of information permit.

Procedures for the conduct of and participation in ACRS meetings were published in the Federal Register on October 2, 2006 (71 FR 58015). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4 p.m. (ET). ACRS meeting agenda, meeting transcripts, and letter reports are available through the NRC Public Document Room at pdr@nrc.gov, or by calling the PDR at 1-800-397-4209, or from the Publicly Available Records System (PARS) component of NRC's document system (ADAMS), which is accessible from the NRC Web site at http://www.nrc.gov/reading-rm/adams.html or ttp://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m. (ET), at least 10 days before the meeting to ensure the availability of this service. Individuals or organizations requesting this service will be responsible for telephone line charges and for providing the equipment and facilities that they use to establish the videoteleconferencing link. The availability of videoteleconferencing services is not guaranteed.

Dated: March 15, 2007.
Andrew L. Bates,
Advisory Committee Management Officer.

[FR Doc. E7-5151 Filed 3-20-07; 8:45 am]

BILLING CODE 7590-01-P